OFFICE OF THE UNITED STATES TRADE REPRESENTATIVE

Notice of Meeting of the Industry Sector Advisory Committee on Small and Minority Business (ISAC-14)

AGENCY: Office of the United States Trade Representative.

ACTION: Notice of meeting.

SUMMARY: The Industry Sector Advisory Committee on Small and Minority business (ISAC-14) will hold an open meeting on November 13, 2000 from 9:15 a.m. to 3 p.m.

DATES: The meeting is scheduled for November 13, 2000, unless otherwise notified

ADDRESSES: The meeting will be held at the Department of Commerce, Room 4830, located at 14th Street and Constitution Avenue, NW., Washington, DC, unless otherwise notified.

FOR FURTHER INFORMATION CONTACT: Millie Sjoberg, Department of Commerce, 14th St. and Constitution Ave., NW., Washington, DC 20230, (202) 482-4792 or Dominic Bianchi, Office of the United States Trade Representative, 600 17th St., NW., Washington, DC 20508, (202) 395-6120.

SUPPLEMENTARY INFORMATION: ISAC-14 will hold an open meeting on November 13, 2000 from 9:15 a.m. to 3 p.m. Agenda topics to be addressed will be:

1. A briefing on issues regarding infrastructure security;

2. A briefing on new Carousel Legislation;

3. A briefing on the Export Finance Matchmaker program;

4. A briefing on E-Commerce as it relates to the Free Trade Agreement of the Americas; and

5. Committee business.

Dominic Bianchi,
Acting Assistant United States Trade Representative for Intergovernmental Affairs and Public Liaison.

[FR Doc. 00-27457 Filed 10-25-00; 8:45 am]

BILLING CODE 3190-01-M